DEPARTMENT OF THE INTERIOR

National Park Service

[N6952; NPS-WASO-NAGPRA-NPS0042089; PPWOCRADN0-PCU00RP14.R50000]

Notice of Inventory Completion: Cobb Institute of Archaeology and the Department of Anthropology and Middle Eastern Cultures, Mississippi State University, Mississippi State, MS

AGENCY: National Park Service, Interior.

ACTION: Notice.

SUMMARY: In accordance with the Native American Graves Protection and Repatriation Act (NAGPRA), Mississippi State University (MSU) has completed an inventory of human remains and has determined that there is a cultural affiliation between the human remains and Indian Tribes or Native Hawaiian organizations in this notice.

DATES: Repatriation of the human remains in this notice may occur on or after April 1, 2026.

ADDRESSES: Send written requests for repatriation of the human remains in this notice to Tony Boudreaux, Cobb Institute of Archaeology and Department of Anthropology and Middle Eastern Cultures, Mississippi State University, 340 Lee Boulevard, Mississippi State, MS 39762, email eab4@msstate.edu.

SUPPLEMENTARY INFORMATION: This notice is published as part of the National Park Service's administrative responsibilities under NAGPRA. The determinations in this notice are the sole responsibility of MSU, and additional information on the determinations in this notice, including the results of consultation, can be found in its inventory or related records. The National Park Service is not responsible for the determinations in this notice.

Abstract of Information Available

Human remains representing, at least, 16 individuals have been identified. No associated funerary objects are present. These individuals are from four different collections curated by MSU. The Ben Hilbun Jr. Collection was donated by him to MSU. The provenience information for this collection is unknown, but it likely came from Oktibbeha County, MS. It includes the partial remains of at least one individual and no associated funerary items. The Robert C. Morris Collection was donated by him to MSU. The provenience information for this collection is unknown, but it likely came from Oktibbeha County, MS. It includes the partial remains of at least one individual and no associated funerary items. The W. W. Scales Collection was donated by him to MSU. The provenience information for this collection is unknown, but it likely came from Oktibbeha County, MS. It includes the partial remains of at least one individual and no associated funerary items. The fourth collections consists of Unprovenienced human remains for which MSU has no collection or context information. It includes the partial remains of at least 13 individual and no associated funerary items. These materials likely have been pulled from the collections for research or teaching at MSU in the past, and they likely are from Oktibbeha County, Mississippi.

Cultural Affiliation

Based on the information available and the results of consultation, cultural affiliation is reasonably identified by the geographical location or acquisition history of the human remains described in this notice.

Determinations

MSU has determined that:

• The human remains described in this notice represent the physical remains of 16 individuals of Native American ancestry.

• There is a connection between the human remains and the Jena Band of Choctaw Indians; Mississippi Band of Choctaw Indians; The Chickasaw Nation; and The Choctaw Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 1, 2026. If competing requests for repatriation are received, MSU must determine the most appropriate requestor prior to repatriation. Requests for joint repatriation of the human remains and associated funerary objects are considered a single request and not competing requests. MSU is responsible for sending a copy of this notice to the Indian Tribes and Native Hawaiian organizations identified in this notice and any other consulting parties.

Authority: Native American Graves Protection and Repatriation Act, 25 U.S.C. 3003, and the implementing regulations, 43 CFR 10.10.

Dated: February 20, 2026.
Melanie O'Brien,
Manager, National NAGPRA Program.

[FR Doc. 2026-04040 Filed 2-27-26; 8:45 am]

BILLING CODE 4312-52-P